ELECTION ASSISTANCE COMMISSION

Agency Information Collection Activities: Extension of Previously Approved Collection

AGENCY: U.S. Election Assistance Commission.

ACTION: Notice.

SUMMARY: As part of its continuing effort to reduce paperwork burdens, and as required by the Paperwork Reduction Act of 1995 (“PRA”), the U.S. Election Assistance Commission (“EAC”) gives notice that it is requesting from the Office of Management and Budget (“OMB”) an extension (without change) of its currently approved National Mail Voter Registration form (OMB Control No. 3265-0015). Section 9(a) of the National Voter Registration Act of 1993 (“NVRA”) and Section 802 of the Help America Vote Act of 2002 (“HAVA”) requires the responsible agency to maintain a national mail voter registration form for U.S. citizens that want to register to vote, to update registration information due to a change of name, make a change of address or to register with a political party by returning the form to their state election office.

DATES: Comments must be received no later than 5 p.m. Eastern Standard Time on November 12, 2021.

ADDRESSES: You may submit written statements with respect to the National Mail Voter Registration form no later than 5 p.m. on November 12, 2021. Statements may be sent via email to research@eac.gov and via standard mail addressed to the U.S. Election Assistance Commission, 633 3rd Street NW, Suite 200, Washington, DC 20001.

FOR FURTHER INFORMATION CONTACT: Nichelle Williams, Telephone: (202) 924-1312.

SUPPLEMENTARY INFORMATION: Persons wishing to register to vote may use the National Mail Voter Registration form (“Federal form” or “form”) to apply for voter registration. After completing the form, an applicant submits her/his form to their respective state election office for processing. States covered by the NVRA process the information from the form to register an applicant to vote. Neither EAC nor any other Federal agency processes or collects any information from the Federal form that a registration applicant submits to a state. Rather, EAC prescribes the Federal form, and states collect and record the information applicants submit. The Federal form is composed of the registration application, instructions for completing the application (General Instructions and Application Instructions), and state-specific instructions that identify each state's particular requirements. A copy of the current form in English and 14 additional translated languages is available on EAC's website, at https://www.eac.gov/voters/national-mail-voter-registration-form.

Affected Public (Respondents): U.S. citizens eligible to vote in jurisdictions that accept and use the National Mail Voter Registration form.

Number of Respondents: 2,500,000.

Responses per Respondent: 1.

Estimated Burden per Response: 0.12 hours per response.

Estimated Total Annual Burden Hours: 291,667 hours annualized.

Frequency: Annually.

Comments: Public comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

Obtaining a Copy of the National Mail Voter Registration Form: To obtain a free copy of the registration form: (1) Download a copy at https://www.eac.gov/voters/national-mail-voter-registration-form; or (2) write to the EAC (including your address and phone number) at U.S. Election Assistance Commission, 633 3rd Street NW, Suite 200, Washington, DC 20001, Attn: National Mail Voter Registration Form.

Nichelle Williams,
Director of Research, U.S. Election Assistance Commission.

[FR Doc. 2021-19871 Filed 9-14-21; 8:45 am]

BILLING CODE P